DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,034; E.M. Bair, Canton, OH.

In the following case, the investigation revealed that the criteria for eligibility have not been met for the reasons specified.

The investigation revealed that criterion (a)(2)(A) (I.C.) (Increased imports) and (a) (2)(B) (II.B) (No shift in production o a foreign country) have not been met.

TA-W-50,544; Firestone Tube Co., Russellville, AR.

TA-W-50,514; General Electric Co., Industrial Systems, Mebane, NC.

TA-W-50,531; Hankins Lumber Co., Inc., Grenada, MS.

TA-W-51,056; Fishing Vessel (F/V) Mariam, Dillingham, AK.

TA-W-50,204; Kokusai Semiconductor Equipment Corp., Billerica Facility, Billerica, MA.

TA-W-50,443; Flexcel Manufacturing, a Div. of Kimball International, Danville, KY.

TA-W-50,457; TLC Polyform, Inc., Beaverton, MI.

TA-W-50,505; Newport Steel Corp., Newport, KY.

TA-W-50,578; Cleveland Chair, Madisonville, TN.

TA-W-50,705; Rexam Medical Packaging, Healthcare Flexibles Div., Mt. Holly, NJ.

TA-W-51,086; Fishing Vessel (F/V) Golda June, Dillingham, AK.

TA-W-50,922; Premtec, Inc., Gastonia, NC.

TA-W-51,060; Fishing Vessel (F/V), Jeweline M, Manokotak, AK.

TA-W-50,792; Fishing Vessel (F/V) Hammer Time, Togiak, AK.

TA-W-50,760; Set Net, Alaska Commercial Fisheries Entry Commission, Permit #SO4T58778L, Clark's Point, AK.

TA-W-50,711; Fishing Vessel (F/V) Captain Chris, Nushagak, AK.

TA-W-51,000; Set Net, State of Alaska Commercial Fisheries Entry Commission, Permit #SO4T59937S, Naknek, AK.

TA-W-51,016; Fishing Vessel (F/V) Helen Marg, New Stuy, AK.

TA-W-50.718; Fishing Vessel (F/V) Adrian D., Clarks Point, AK.

TA-W-50,750; Fishing Vessel (F/V) Roeboat, Togiak, AK.

TA-W-51,015; Fishing Vessel (F/V), New Stuy, AK.

TA-W-51,035; Fishing Vessel (F/V) Michelle Dawn, Pilot Point, AK.

TA-W-50,762; State of Alaska Commercial Fisheries Entry Commission Permit #SO4T59580, Dillingham, AK.

TA-W-50,757; Fishing Vessel (F/V) Desiree Marie III, Togiak, AK.

The workers firm does not produce an article as required for certification under section 222 of the Trade Act of 1974.

TA-W-50,962; Sykes Enterprises, Inc., Eveleth, MN.

TA-W-42,315; Alcatel USA Marketing, Inc., Voice Network Div. (VND), Wireless Switching Group, EMX 5000 Product Group, Plano, TX.

TA-W-50,438; Computer Sciences Corp., Applications Services Div., Somerset, NJ.

TA-W-50,609; Cendant Corp., Elizabethon, TN.

TA-W-50,737; Austin Powder Co., Bend, OR.

The investigation revealed that criteria (2) has not been met. The workers' firm (or subdivision) is not an upstream supplier or components for trade-affected companies.

TA-W-50,458; Smurfit-Stone Container Corp., Corrugated Container Div., Spartanburg, SC.

The investigation revealed that criterion (a)(2)(A) (I.A) (no employment declines) has been met.

TA-W-50,997; State of Alaska Commercial Fisheries Entry Commission Permit #SO4T57783F, South Naknek, AK.

TA-W-51,034; Fishing Vessel (F/V) Tianna Sea, Port Heiden, AK.

TA-W-50,791; Fishing Vessel (F/V) Sally Ann, Manokotak, AK.

TA-W-50,716; Fishing Vessel (F/V) Miss Kristy, Clarks Point, AK.

TA-W-50,998; State of Alaska Commercial Fisheries Entry Commission Permit #SO4T60185R, South Naknek, AK.

The investigation revealed that criterion (a)(2)(A) (I.B) (sales or production, or both did not decline) and (a)(2)(A) (II.B) (no shift in production to a foreign country) have not been met.

TA-W-50,603; F/V Norona, Homer, AK.

The investigation revealed that criterion (a)(2) (I.A.) (No employment declines) and (a)(2)(B) (No shift in production to a foreign country) have been met.

TA-W-50,675; Springfield Wire, Inc., Springfield, MA.

Affirmative Determinations for Worker Adjustment Assistance

The following certifications have been issued; the date following the company name and location of each determination references the impact date for all workers of such determination.

The following certifications have been issued. The requirements of (a)(2)(A) (increased imports) of section 222 have been met.

TA-W-50,883; BOC Edwards, Fabrication and Machine Shop, Philadelphia, PA: February 11, 2002.

TA-W-50,165; Weyerhaeuser Co., Fine Papers Div., Johnsonburg, PA: November 15, 2001.

TA-W-50,624; Agilent Technologies, Inc., Electronic Product and Solutions Group, World-Wide Materials, Printed Circuit Assembly Group, Loveland, CO: January 16, 2002.

TA-W-50,821; Gold Toe Brands, Inc., Newton, NC: January 22, 2002.

TA-W-50,263; OMG Fidelity, Inc., a wholly owned subsidiary of The OM Group, Inc., Newark, NJ: December 4, 2001.

TA-W-50,538; Dana Corp., Perfect Circle Div., Richmond Liner Foundry, Richmond, IN: January 8, 2002.

TA-W-50,688 & A; Golden Northwest Aluminum, Inc., Northwest Aluminum Co., The Dalles, OR and Goldendale, WA: January 9, 2003.

TA-W-50,725 & A,B,C: Maxtor Corp., Milpitas, CA, Longmont, CO, Shrewsbury, ME and San Jose, CA: January 6, 2002.

TA-W-50,736 & A,B; Isola Laminate Systems Corp., Fremont, CA, Chandler, AZ and Ridgeway, SC: January 27, 2002.

TA-W-50,846; Torque-Traction Manufacturing Technologies, Inc., a Subsidiary of Dana Corp., Jonesboro, AR: January 31, 2002.

TA-W-50,895; Americal Corp., Goldsboro, NC: February 12, 2002.

TA-W-50,966; Acco Chain and Lifting Products, Saltville, VA: February 24, 2002.

TA-W-51,002; Ansell Healthcare, Ansell Golden Needles Div., Wilkesboro, NC: February 26, 2002.

TA-W-50,855; Magna Powertech, Grand Rapids, MI: February 10, 2002.

TA-W-50,150 & A,B; Thomasville Furniture Industries, Inc., Plant B, Thomasville, NC, Plant E, Thomasville, NC and Plant SFD, Thomasville, NC: November 20, 2001.

TA-W-50,208; Marshall Erdman and Associates, Inc., FMG Div., Waunakee, WI: November 27, 2002.

TA-W-50,521; Gorecki Manufacturing, Inc., Milaca, MN: January 3, 2002.

The following certification has been issued. The requirement of upstream supplier to trade certified primary firm has been met.

TA-W-50,034; Plastic Products Co., Inc., Moline, IL:November 8, 2001.

The following certifications have been issued. The requirements of (a)(2)(B) (shift in production) of section 222 have been met.

TA-W-50,825; LG. Philips Displays, Inc., Ottawa, OH: January 17, 2002.

TA-W-50,126; Johnson Controls, Inc., Fullerton, CA: November 13, 2001.

TA-W-50,158; Alcatel USA Marketing, Inc., Voice Network Div., PB3 Building, Plano, TX: November 19, 2001.

TA-W-50,584; Lockheed Martin Postal Technologies, Inc., Tulsa, OK: January 6, 2002.

TA-W-50,594; Maxcess Technologies, Inc., including leased workers of Alternative Staffing and Innovative Partners, Summerville, SC: January 16, 2002.

TA-W-50,345; Gateway Forest Products, Ward Cove, AK: December 12, 2001.

TA-W-50,490; CCL Container, Inc., Aluminum Production Department, Harrisonburg, VA: January 2, 2002.

TA-W-50,799; LG. Philips Displays, Inc., Ann Arbor, MI: February 3, 2002.

TA-W-50,629; Truth Hardware, West Hazelton, PA: January 20, 2002.

TA-W-50,670; Abitibi Consolidated Corp., Sheldon, TX: January 23, 2002.

TA-W-50,714; Fishing Vessel (F/V) Miss Mary, Manokotak, AK: January 21, 2002.

TA-W-50,726; Accuride International, Inc., Santa Fe Springs, CA: January 29, 2002.

TA-W-50.774; A-Plus Manufacturing, North Andover, MA: January 29, 2002.

TA-W-50,776; North Safety Products, a subsidiary of Norcross Safety Products, Tallmadge, OH: February 3, 2002.

TA-W-50,934; Shadowline, Inc., Morganton, NC: February 11, 2002.

TA-W-50,935; Coe Newness/McGehee Corp., Ukiah, CA: February 7, 2002.

TA-W-51,006; Forecaster of Boston, Fall River, MA: February 5, 2002.

TA-W-51,091; Ingersoll Products Co., Chicago, IL: February 27, 2002.

TA-W-50,797; E.I. DuPont de Nemours & Co., Inc., DuPont Performance Coatings, Rochester, NY: February 6, 2002.

TA-W-50,662; OBG Distribution Co. LLC, Celina, TN: January 10, 2002.

TA-W-50,646; Levelor Kirsch Window Fashions, Athens, GA: January 20, 2002.

TA-W-50,404; Vernay Laboratories, Inc., Yellow Springs, OH: December 11, 2001.

TA-W-50,420; Walbro Engine Management, LLX, Cass City, MI: December 17, 2001.

TA-W-50,589; VF Corp., VF Playwear, Inc., Danville, VA: January 15, 2002.

TA-W-50,596; Reptron Manufacturing Services, a Div. of Reptron Electronics, Inc., Hibbing, MN: January 15, 2002.

Also, pursuant to title V of the North American Free Trade Agreement Implementation Act (Pub. L. 103-182) concerning transitional adjustment assistance hereinafter called (NAFTA-TAA) and in accordance with section 250(a), subchapter D, chapter 2, title II, of the Trade Act as amended, the Department of Labor presents summaries of determinations regarding eligibility to apply for NAFTA-TAA issued during the month of March 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None.

The investigation revealed that the criteria for eligibility have not been met for the reasons specified.

The investigation revealed that the workers of the subject firm did not produce an article within the meaning of section 250(a) of the Trade Act, as amended.

None.

Affirmative Determinations NAFTA-TAA

None.

I hereby certify that the aforementioned determinations were issued during the month of March 2003. Copies of these determinations are available for inspection in Room C-5311, U.S. Department of Labor, 200 Constitution Avenue, NW., Washington, DC 20210 during normal business hours or will be mailed to persons who write to the above address.

Dated: March 14, 2003.
Edward A. Tomchick,
Director, Division of Trade Adjustment Assistance.

[FR Doc. 03-7198 Filed 3-25-03; 8:45 am]

BILLING CODE 4510-30-P